ENVIRONMENTAL PROTECTION AGENCY

40 CFR Part 52

[EPA-R09-OAR-2022-0607; FRL-10024-04-R9]

Air Plan Approval; Arizona; Maricopa County Air Quality Department; Correction

AGENCY: Environmental Protection Agency (EPA).

ACTION: Correcting amendments.

SUMMARY: On January 16, 2025, the Environmental Protection Agency (EPA) published a final rule in the Federal Register approving revisions to the Maricopa County Air Quality Department (MCAQD or “County”) portion of the Arizona State Implementation Plan (SIP). In that rulemaking, the EPA inadvertently published numbering errors in the regulatory text codifying the approval in the Code of Federal Regulations (CFR). This document corrects the errors in the final rule's regulatory text.

DATES: This action is effective June 11, 2025.

ADDRESSES: The EPA has established a docket for this action under Docket No. EPA-R09-OAR-2022-0607. All documents in the docket are listed on the https://www.regulations.gov website. Although listed in an index, some information is not publicly available, e.g., Confidential Business Information (CBI) or other information whose disclosure is restricted by statute. Certain other material, such as copyrighted material, is not placed on the internet and will be publicly available only in hard copy form. Publicly available docket materials are available through https://www.regulations.gov, or please contact the person identified in the FOR FURTHER INFORMATION CONTACT section for additional availability information. If you need assistance in a language other than English or if you are a person with a disability who needs a reasonable accommodation at no cost to you, please contact the person identified in the FOR FURTHER INFORMATION CONTACT section.

FOR FURTHER INFORMATION CONTACT: Mae Wang, EPA Region IX, 75 Hawthorne Street, San Francisco, CA 94105, phone: (415) 947-4137, email: wang.mae@epa.gov.

SUPPLEMENTARY INFORMATION: This action corrects regulatory text affecting 40 CFR part 52 resulting from two inadvertent errors in the amendatory instructions in our final rule published January 16, 2025 (90 FR 4652), approving revisions to the MCAQD portion of the Arizona SIP. That rulemaking was related to the County's reasonably available control technology (RACT) demonstration for the 2008 8-hour ozone National Ambient Air Quality Standards and converted a conditional approval and a partial approval/partial disapproval to full approvals. This current action does not change the final action taken by the EPA on January 16, 2025. This action merely corrects regulatory text to properly codify the EPA's previously published final rulemaking.

40 CFR 52.119, Identification of plan—conditional approvals, identifies portions of the Arizona SIP that the EPA has conditionally approved under CAA section 110(k)(4). In the January 16, 2025 final rule, the amendatory instructions for codifying the conditional approval of portions of the County's RACT demonstration to a full approval in 40 CFR part 52 specified the deletion of paragraph 52.119(c)(3). These instructions resulted in paragraph (c) containing only introductory text describing a 2017 SIP submittal related to the County's RACT demonstration for which there are no longer any remaining conditional approvals. The instructions should have instead specified deleting the entirety of paragraph 52.119(c), including the introductory text. In this action, the EPA is correcting this error and deleting the entirety of paragraph 52.119(c).

Additionally, 40 CFR 52.124, Part D disapproval, identifies portions of the Arizona SIP that the EPA has disapproved under CAA section 110(k)(3) because they do not meet Part D of title I of the CAA. The prior disapproval of portions of the County's RACT demonstration related to our January 16, 2025 final rule was previously codified at 40 CFR 52.124(b)(2)(i) and our final rule should have only deleted this paragraph. However, we inadvertently deleted other disapprovals unrelated to our January 16, 2025 action by deleting the entirety of 52.124(b). This action will correct the error and revise 40 CFR 52.124 to recodify the disapproval for other portions of the County's RACT demonstration previously listed in 52.124(b)(2)(ii), as added by a separate final rule published on January 10, 2025 (90 FR 1903).

The EPA has determined that this action falls under the “good cause” exemption in section 553(b)(B) of the Administrative Procedure Act (APA) which, upon finding “good cause,” authorizes agencies to dispense with public participation where public notice and comment procedures are impracticable, unnecessary, or contrary to the public interest. Public notice and comment for this action are unnecessary because the underlying rule for which these correcting amendments have been prepared was already subject to a 30-day comment period. Further, this action is consistent with the purpose and rationale of the final rule for which inaccurate amendatory instructions are being corrected herein. Because this action does not change the EPA's analyses or overall actions, no purpose would be served by additional public notice and comment. Consequently, additional public notice and comment are unnecessary.

The EPA also finds that there is good cause under APA section 553(d)(3) for these corrections to become effective on the date of publication of this action. Section 553(d)(3) of the APA allows an effective date of less than 30 days after publication “as otherwise provided by the agency for good cause found and published with the rule.” 5 U.S.C. 553(d)(3). The purpose of the 30-day waiting period prescribed in APA section 553(d)(3) is to give affected parties a reasonable time to adjust their behavior and prepare before the final rule takes effect. This rule does not create any new regulatory requirements such that affected parties would need time to prepare before the rule takes effect. This action merely corrects inaccurate amendatory instructions in a previous rulemaking. For these reasons, the EPA finds good cause under APA section 553(d)(3) for these corrections to become effective on the date of publication of this action.

This action is subject to the Congressional Review Act (CRA), and the EPA will submit a rule report to each House of the Congress and to the Comptroller General of the United States. Section 808 allows the issuing agency to make a rule effective sooner than otherwise provided by the CRA if the agency makes a good cause finding that notice and public procedure is impracticable, unnecessary, or contrary to the public interest. This determination must be supported by a brief statement. 5 U.S.C. 808(2). As stated previously, the EPA has made such a good cause finding, including the reasons therefore, for this action to become effective on the date of publication. This action is not a “major rule” as defined by 5 U.S.C. 804(2).

List of Subjects in 40 CFR Part 52

Environmental protection, Air pollution control, Incorporation by reference, Intergovernmental relations, Nitrogen oxides, Ozone, Reporting and recordkeeping requirements, Volatile organic compounds.

Dated: May 23, 2025.
Joshua F. W. Cook,
Regional Administrator, Region IX.

Accordingly, 40 CFR part 52 is corrected by making the following correcting amendments:

PART 52—APPROVAL AND PROMULGATION OF IMPLEMENTATION PLANS

1. The authority citation for part 52 continues to read as follows:

Authority: 42 U.S.C. 7401 et seq.

Subpart D—Arizona

§ 52.119 [Amended]

2. In § 52.119, remove and reserve paragraph (c).

3. In § 52.124, add paragraph (b) to read as follows:

§ 52.124 Part D disapproval.

* * * * *

(b) The following Reasonably Available Control Technology (RACT) determinations are disapproved because they do not meet the requirements of Part D of the Clean Air Act.

(1) [Reserved].

(2) Maricopa County Air Quality Department.

(i) [Reserved].

(ii) The RACT demonstration titled “Analysis of Reasonably Available Control Technology for the 2008 8-Hour Ozone National Ambient Air Quality Standard (NAAQS) State Implementation Plan (RACT SIP),” only those portions of the document beginning with “Gasoline Tank Trucks And Vapor Collection System Leaks” on page 34 through the first full paragraph on page 35, and Appendix C: CTG RACT Spreadsheet, the rows beginning with “Gasoline Tank Trucks And Vapor Collection System Leaks” on page 65, through “Service Stations—Stage I” on pages 67-69. This demonstration represents the RACT requirement for the following source categories: Control of Volatile Organic Compound Leaks from Gasoline Tank Trucks and Vapor Collection Systems (EPA-450/2-78-051) and Design Criteria for Stage I Vapor Control Systems—Gasoline Service Stations (EPA-450/R-75-102).

* * * * *

[FR Doc. 2025-10541 Filed 6-10-25; 8:45 am]

BILLING CODE 6560-50-P